DEPARTMENT OF STATE

[Delegation of Authority No. 309]

Delegation by the Secretary of State to the Assistant Secretary for European Affairs of Authorities Vested in or Delegated to the Under Secretary of State for Political Affairs

By virtue of the authority vested in the Secretary of State, including the authority of section 1 of the State Department Basic Authorities Act, as amended (22 U.S.C. 2651a), I hereby delegate to the Assistant Secretary of State for European Affairs, to the extent authorized by law, all authorities and functions vested in the Under Secretary of State for Political Affairs by any act, order, determination, delegation of authority, regulation, or executive order, now or hereafter issued. This delegation includes all authorities and functions that have been or may be delegated or redelegated by the Under Secretary to other Department officials but does not repeal delegations to such officials.

This delegation to the Assistant Secretary includes State Department Delegation DA-284, which authorizes the Under Secretary for Political Affairs to exercise the authorities and functions of the Secretary or the Deputy Secretary “when both the Secretary of State and the Deputy Secretary of State are absent or otherwise unavailable or when either the Secretary or the Deputy requests that the Under Secretary exercise such authorities and functions.”

This delegation of authority to the Assistant Secretary shall enter into force on March 1, 2008, and shall expire upon the appointment and entry upon duty of a new Under Secretary for Political Affairs. Notwithstanding this delegation of authority, the Secretary of State and the Deputy Secretary of State may exercise any function or authority covered by this delegation.

This delegation of authority shall be published in the Federal Register.

Dated: February 29, 2008.
Condoleezza Rice,
Secretary of State, Department of State.

[FR Doc. E8-4856 Filed 3-11-08; 8:45 am]

BILLING CODE 4710-10-P